DEPARTMENT OF THE INTERIOR

Bureau of Land Management

[BLM_UT_FRN_MO4500176456]

Notice of Public Meeting, Bears Ears National Monument Advisory Committee, Utah

AGENCY: Bureau of Land Management, Interior.

ACTION: Notice of public meeting.

SUMMARY: In accordance with the Federal Land Policy and Management Act, as amended, the Federal Advisory Committee Act, and the Federal Lands Recreation Enhancement Act, the U.S. Department of the Interior, Bureau of Land Management's (BLM) Bears Ears National Monument Advisory Committee (Committee) will meet as indicated below.

DATES: The Committee will participate in a field tour on August 7, 2024, from 7:30 a.m. to approximately 4:00 p.m. Mountain Time.

ADDRESSES: The August 7 field tour will commence and conclude at the USDA Forest Service Monticello Ranger Station located at 397 North Main in Monticello, UT 84535.

FOR FURTHER INFORMATION CONTACT: Rachel Wootton, Canyon Country District Public Affairs Officer, P.O. Box 7, Monticello, Utah 84535, via email with the subject line “BENM MAC” to blm_ut_mt_mail@blm.gov, or by calling the Monticello Field Office at (435) 587-1500. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 9558 and Presidential Proclamation 10285 established the Committee to provide advice and information to the Secretary of the Interior through the Director of the BLM, and to the Secretary of the U.S. Department of Agriculture (USDA) through the Chief of the USDA Forest Service, to consider for managing the Bears Ears National Monument. The 15-member Committee represents a wide range of stakeholders including State and local government, paleontological and archaeological interests, the conservation community, livestock grazing permittees, Tribal members, developed and dispersed recreation interests, private landowners, local business owners, and the public at large.

The August 7 field tour will include visits to multiple sites within the Bears Ears National Monument. The public is welcome to attend the field tour but must provide their own transportation and meals. Individuals who plan to attend must RSVP at least one week in advance of the field tour to the individual listed in the FOR FURTHER INFORMATION CONTACT section of this notice. Field tour sites will be announced on the Committee's web page at least 7 days in advance at https://www.blm.gov/get-involved/rac-near-you/utah/benm-mac.

The field tour is being conducted in conjunction with the previously scheduled meeting of the Committee on August 8, 2024. That meeting was originally noticed in the Federal Register on February 2, 2024, at 89 FR 12376.

Please make requests in advance for sign language interpreter services, assistive listening devices, language translation services, or other reasonable accommodations. We ask that you contact the person listed under FOR FURTHER INFORMATION CONTACT, at least 7 days prior to the meeting to give the Department of the Interior sufficient time to process your request. All reasonable accommodation requests are managed on a case-by-case basis.

(Authority: 5 U.S.C. Ch. 10)

Gregory Sheehan,
State Director.

[FR Doc. 2024-14090 Filed 6-26-24; 8:45 am]

BILLING CODE 4331-25-P